DEPARTMENT OF VETERANS AFFAIRS

Advisory Committee on the Readjustment of Veterans, Notice of Meeting

The Department of Veterans Affairs (VA) gives notice under Public Law 92-463 that a Meeting of the Advisory Committee on the Readjustment of Veterans will be held February 15 and 16, 2001. This will be a regularly scheduled meeting for the purpose of reviewing VA services for veterans, and to formulate Committee recommendations and objectives. The meeting on both days will be held at The American Legion, Washington, Office, 1608 K Street, NW, Washington, DC. The agenda on both days will commence at 8:30 a.m., and adjourn at 4:30 p.m.

The agenda for Thursday, February 15, will include a review of areas of potential partnership between the Departments of Defense and Veterans Affairs for effectively coordinating the treatment of traumatic stress disorders in veterans exposed to war-zone stressors while on active duty in the military.

On Friday, February 16, the Committee will review Veterans Health Administration (VHA) special emphasis programs for post-traumatic stress disorder and readjustment counseling as provided in VA Vet Centers. The agenda for both days will also include strategic planning sessions to formulate goals and objectives for a Committee field visit to VA facilities to be conducted later in the year.

The meeting will be open to the public. Those who plan to attend or who have questions concerning the meeting may contact Alfonso R. Batres, Ph.D., M.S.S.W., Chief Readjustment Counseling Officer, Department of Veterans Affairs Headquarters Office at (202) 273-8967.

Dated: January 16, 2001.
By Direction of the Acting Secretary.
Marvin R. Eason,
Committee Management Officer.

[FR Doc. 01-2115 Filed 1-23-01; 8:45 am]

BILLING CODE 8320-01-M